GENERAL SERVICES ADMINISTRATION

[Notice-MA-2023-06; Docket No. 2023-0006; Sequence No. 01]

Federal Travel Regulation (FTR); Agency Reporting Requirements

AGENCY: Office of Government-wide Policy (OGP), General Services Administration (GSA).

ACTION: Notice of GSA Bulletin FTR 23-06, travel reporting information profile (trip) reporting requirements.

SUMMARY: GSA Bulletin FTR 23-06 announces updates to the reporting requirements for annual travel and transportation information, commonly called the TRIP report.

DATES: Applicable: May 31, 2023.

FOR FURTHER INFORMATION CONTACT: For clarification of content, contact LaMan Dantzler J.D., Office of Government-wide Policy, Office of Asset and Transportation Management, at travelpolicy@gsa.gov, or 202-615-5399. Please cite Notice of GSA Bulletin FTR 23-06.

SUPPLEMENTARY INFORMATION: 5 United States Code 5707(c), as implemented in Federal Travel Regulation (FTR) Part 300-70, directs agencies (as defined in FTR § 301-1.1) to report specific information on payments for temporary duty travel and employee relocation no later than November 30 of each year to the General Services Administration (GSA). The head of the agency is responsible for ensuring the reported information is complete and accurate, to include information from all components of the agency, before submitting it to GSA (FTR 300-70.3; 300-70.4).

Executive Order 14057, “Catalyzing Clean Energy Industries and Jobs Through Federal Sustainability” and its implementing instructions direct GSA to establish tracking and provide annual reporting of agency-specific and Government-wide Scope 3 greenhouse gas (GHG) carbon emissions for employee travel.

The E-Gov Travel Service (ETS) and the Department of Defense's Defense Travel System (DTS) and MyTravel solutions capture mileage information required to compute a carbon footprint for commercial airline and privately owned vehicle travel, but GSA cannot extract this mileage data directly from other agencies' travel solutions. To consolidate travel-related information into a single repository while enabling necessary GHG calculations, GSA is adding mileage components to the information agencies must submit in the TRIP report.

GSA Bulletin FTR 23-06 can be viewed in its entirety at https://www.gsa.gov/ftrbulletins.

Saul A. Japson,
Principal Deputy Associate Administrator, Office of Government-wide Policy.

[FR Doc. 2023-11436 Filed 5-30-23; 8:45 am]

BILLING CODE 6820-14-P